DEPARTMENT OF THE INTERIOR

Bureau of Reclamation

[G63-0982-9832-100-96-76, 84-55000]

Quarterly Status Report of Water Service, Repayment, and Other Water-Related Contract Actions

AGENCY: Bureau of Reclamation, Interior.

ACTION: Notice.

SUMMARY: Notice is hereby given of contractual actions that have been proposed to the Bureau of Reclamation (Reclamation) and are new, modified, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Please use the first quarter notice, 78 FR 21969, dated April 12, 2013, as a reference. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

Modified contract action:

8. Three irrigation water user entities, Rogue River Basin Project, Oregon: Long-term contracts for exchange of water service with three entities for the provision of up to 292 acre-feet of stored water from Applegate Reservoir (a USACE project) for irrigation use in exchange for the transfer of out-of-stream water rights from the Little Applegate River to instream flow rights with the State of Oregon for instream flow use.

Completed contract action:

11. Prineville Reservoir Water Users, Crooked River Project, Oregon: Repayment agreements with spaceholder contractors for reimbursable cost of SOD modifications to Arthur R. Bowman Dam.

Mid-Pacific Region: Bureau of Reclamation, 2800 Cottage Way, Sacramento, California 95825-1898, telephone 916-978-5250.

New contract action:

57. Fresno County Waterworks No. 18, Friant Division, CVP, California: Execution of an agreement to provide for the O&M of select Federal facilities by Fresno County Waterworks No. 18.

Completed contract actions:

21. Oro Loma WD, CVP, California: Proposed partial assignment of 4,000 acre-feet of the District's CVP supply to Westlands WD for irrigation and M&I use. Assignment executed on March 1, 2012.

39. Tea Pot Dome WD and Saucelito ID, CVP, California: Partial assignment of 300 acre-feet of Tea Pot Dome's current Friant Division contract class 1 water supply to Saucelito ID. Assignment executed on April 14, 2013.

40. Lewis Creek WD and Hills Valley ID, CVP, California: Partial assignment of 250 acre-feet of Lewis Creek's current Friant Division contract class 1 water to Hills Valley ID. Assignment executed on April 12, 2013.

41. Porterville ID and Hills Valley ID, CVP, California: Partial assignment of 1,000 acre-feet of Porterville's class 1 water to Hills Valley ID. Assignment executed on April 14, 2013.

42. Exeter ID and Tri-Valley WD, CVP, California: Partial assignment of 400 acre-feet of Exeter's class 1 water to Tri-Valley WD. Assignment executed on April 15, 2013.

49. Virginia L. Lempesis Separate Property Trust, CVP, California: Contract for the adjustment and settlement of certain claimed water rights in the Fresno Slough tributary to the San Joaquin River in fulfillment of such rights pursuant to contract No. I1r-1145 for the purchase of Miller & Lux Water Rights, dated July 27, 1939. Contract executed on April 6, 2013.

Lower Colorado Region: Bureau of Reclamation, P.O. Box 61470 (Nevada Highway and Park Street), Boulder City, Nevada 89006-1470, telephone 702-293-8192.

Completed contract action:

10. Gila River Indian Community and Apache Junction, CAP, Arizona: Approve a CAP water lease for 1,000 acre-feet per year which will end on the 100th anniversary of the option effective date as described in the lease. Lease executed on May 24, 2013.

Upper Colorado Region: Bureau of Reclamation, 125 South State Street, Room 6107, Salt Lake City, Utah 84138-1102, telephone 801-524-3864.

Modified contract actions:

3. Various Contactors, San Juan-Chama Project, New Mexico: The United States proposes to continue leasing water from various project contractors to stabilize flows in a critical reach of the Rio Grande in order to meet the needs of irrigators and preserve habitat for the silvery minnow. Reclamation expects to lease approximately 20,000 acre-feet of water from willing lessors in 2013.

4. Individual Irrigators, Carlsbad Project, New Mexico: The United States proposes to continue entering into forbearance contracts and lease agreements with individuals who have privately held water rights to divert nonproject water either directly from the Pecos River or from shallow/artesian wells in the Pecos River Watershed. Reclamation is in negotiations with Fort Sumner ID for partial and full-season fallowing. This action will result in additional water in the Pecos River to make up for the water depletions caused by changes in operations at Sumner Dam which were made to improve conditions for a threatened species, the Pecos Bluntnose Shiner.

17. Contracts with various water user entities responsible for payment of O&M costs for Reclamation projects in Arizona, Colorado, New Mexico, Texas, Utah, and Wyoming: Contracts for extraordinary maintenance and replacement funded pursuant to Subtitle G of Pub. L. 111-11 to be executed as project progresses.

27. Weber Basin Project, Utah: The North Summit Pressurized Irrigation Company has requested a carriage contract for up to 7,000 acre-feet of nonproject water through Wanship Dam and outlet works, Weber Basin Project. Negotiations are anticipated to begin shortly.

28. Blue Cut Mitigation Project and Emery County Project, Utah: Reclamation has proposed an exchange under which it would provide an augmentation to flows in the San Rafael River to the Fish and Wildlife Service in exchange for the Fish and Wildlife Service transferring water right No. 93-2241 to Reclamation, Emery County Project. Reclamation will enter into a water service contract with the Cottonwood Creek Consolidated Irrigation Company for approximately 2,300 acre-feet of water.

2. San Juan-Chama Project, New Mexico: The United States and the Town of Taos, with passage of The Taos Indian Water Rights Settlement legislation by the Congress, entered into a new contract, No. 12-WC-40-462, for an additional 366 acre-feet annually of project water. The settlement legislation provided for a third repayment contract for 40 acre-feet of project water to be delivered to the El Prado Water and Sanitation District, contract No. 12-WC-40-463. The United States is holding the remaining 369 acre-feet of project water for potential use in Indian water rights settlements in New Mexico.

Completed contract actions:

2. San Juan-Chama Project, New Mexico: With passage of The Taos Indian Water Rights Settlement legislation by the Congress, the United States, entered into repayment contract No. 12-WC-40-462 with the Town of Taos for an additional 366 acre-feet annually of project water and repayment contract No. 12-WC-40-463 for 40 acre-feet of project water to be delivered to the El Prado Water and Sanitation District. Both contracts were executed on July 3, 2012.

8. State of Colorado, Animas-La Plata Project, Colorado and New Mexico: Cost-sharing/repayment contract for up to 10,440 acre-feet per year of M&I water; contract terms to be consistent with the Colorado Ute Settlement Act Amendments of 2000 (Title III of Pub. L. 106-554). Contract executed on June 18, 2012.

29. Jensen Unit, CUP, Utah: Temporary water service contract with the Uintah Water Conservancy District for use of the 3,300 acre-feet of Jensen Unit M&I water during drought years. Contract executed on June 30, 2012.

Great Plains Region: Bureau of Reclamation, P.O. Box 36900, Federal Building, 2021 4th Avenue North, Billings, Montana 59101, telephone 406-247-7752.

New contract action:

49. Harlan County Dam and Reservoir, Bostwick Division, P-SMBP, Nebraska and Kansas: Consideration of a contract with Bostwick ID in Nebraska and Kansas-Bostwick ID No. 2 for repayment of extraordinary O&M at Harlan County Dam and Reservoir.

Modified contract actions:

4. Ruedi Reservoir, Fryingpan-Arkansas Project, Colorado: Proposed repayment contracts for the remaining water from the regulatory capacity of Ruedi Reservoir.

19. Green Mountain Reservoir, Colorado-Big Thompson Project, Colorado: Consideration of a request for a long-term contract for municipal-recreational purposes.

20. Northern Colorado Water Conservancy District, Colorado-Big Thompson Project, Colorado: Supplement to contract No. 9-07-70-W0020 to allow Northern Colorado Water Conservancy District to contract for delivery of 5,412.5 acre-feet of water annually out of Lake Granby to the 15-Mile Reach.

Completed contract actions:

14. Big Horn Canal ID, Boysen Unit, P-SMBP, Wyoming: Intent to enter into a long-term water service contract. Contract executed on May 1, 2013.

15. Hanover ID, Boysen Unit, P-SMBP, Wyoming: Intent to enter into a long-term water service contract with the District. Contract executed May 1, 2013.

29. Republican River Basin, P-SMBP, Kansas/Nebraska: Consideration of short-term contract(s) for use of Reclamation facilities during non-irrigation season. Contract executed on May 10, 2013.

Dated: June 20, 2013.
Roseann Gonzales,
Director, Policy and Administration.

[FR Doc. 2013-18354 Filed 7-30-13; 8:45 am]

BILLING CODE 4310-MN-P